DEPARTMENT OF TRANSPORTATION

Federal Aviation Administration

14 CFR Part 39

[Docket No. 2000-NM-66-AD]

RIN 2120-AA64

Airworthiness Directives; Empresa Brasileira de Aeronautica S.A. (EMBRAER) Model EMB-120 Series Airplanes

AGENCY: Federal Aviation Administration, DOT.

ACTION: Supplemental notice of proposed rulemaking; reopening of comment period.

SUMMARY: This document revises an earlier proposed airworthiness directive (AD), applicable to certain EMBRAER Model EMB-120 series airplanes, that would have superseded an existing AD that currently requires repetitive visual checks or inspections to verify that the flight idle stop system circuit breakers are closed, and functional tests to determine if the backup flight idle stop system is operative. A supplemental NPRM was issued to require modification of the secondary flight idle stop system (SFISS), which would terminate the repetitive actions. This supplemental NPRM would remove one airplane from the applicability; and would add new inspections and corrective actions if necessary. The actions specified by this proposed AD are intended to prevent inadvertent or intentional operation with the power levers below the flight idle stop during flight for airplanes that are not certificated for in-flight operation, which could result in engine overspeed and consequent loss of controllability of the airplane.

DATES: Comments must be received by June 10, 2002.

ADDRESSES: Submit comments in triplicate to the Federal Aviation Administration (FAA), Transport Airplane Directorate, ANM-114, Attention: Rules Docket No. 2000-NM-66-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2000-NM-66-AD” in the subject line and need not be submitted in triplicate. Comments sent via the Internet as attached electronic files must be formatted in Microsoft Word 97 for Windows or ASCII text.

The service information referenced in the proposed rule may be obtained from Empresa Brasileira de Aeronautica S.A. (EMBRAER), P.O. Box 343—CEP 12.225, Sao Jose dos Campos—SP, Brazil. This information may be examined at the FAA, Transport Airplane Directorate, 1601 Lind Avenue, SW., Renton, Washington; or at the FAA, Atlanta Aircraft Certification Office, One Crown Center, 1895 Phoenix Boulevard, suite 450, Atlanta, Georgia.

FOR FURTHER INFORMATION CONTACT: Scott A. Geddie, Aerospace Engineer, Propulsion Branch, ACE-117A, FAA, Atlanta Aircraft Certification Office, One Crown Center, 1895 Phoenix Boulevard, suite 450, Atlanta, Georgia 30349; telephone (770) 703-6068; fax (770) 703-6097.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-66-AD.” The postcard will be date stamped and returned to the commenter.

Availability of NPRMs

Any person may obtain a copy of this NPRM by submitting a request to the FAA, Transport Airplane Directorate, ANM-114, Attention: Rules Docket No. 2000-NM-66-AD, 1601 Lind Avenue, SW., Renton, Washington 98055-4056.

Discussion

A proposal to amend part 39 of the Federal Aviation Regulations (14 CFR part 39) to add an airworthiness directive (AD), applicable to certain EMBRAER Model EMB-120 series airplanes, was published as a first supplemental notice of proposed rulemaking (NPRM) in the Federal Register on January 16, 2001 (66 FR 3511). That first supplemental NPRM proposed to supersede AD 92-16-51, amendment 39-8355 (57 FR 40838, September 8, 1992), which is applicable to all EMBRAER Model EMB-120 series airplanes. It would have continued to require repetitive visual checks or inspections to verify that the flight idle stop system circuit breakers are closed, and repetitive functional tests to determine if the backup flight idle stop system is operative. It also would have required modification of the secondary flight idle stop system (SFISS), which would terminate the requirements for the repetitive actions. That first supplemental NPRM was prompted by issuance of mandatory continuing airworthiness information by a foreign civil airworthiness authority. The actions specified by that supplemental NPRM are intended to prevent an inoperative backup flight idle stop system.

Actions Since Issuance of Previous Proposal

EMBRAER has issued the following three revised service bulletins. The major changes in these revisions are described below:

Service Bulletin 120-76-0015, Change No. 06, dated October 3, 2000, adds Part III to the Accomplishment Instructions to revise the SFISS modification procedures by including a new inspection. These procedures specify inspecting the attachment of the power control cable end at the bellcrank in the left and right nacelles using a mirror, and verifying the type of bolt used. If a countersunk-head bolt is found, no further action is required. If a hex-head bolt is found, corrective actions include inspecting the existing hole in the bellcrank and replacing the bolt with a new bolt.

Service Bulletin 120-76-0018, Change No. 04, dated March 30, 2001, corrects the number of work hours required to accomplish the procedures specified in Part I and Part II of the Accomplishment Instructions.

Service Bulletin 120-76-0022, Change No. 01, dated October 9, 2000, adds Part IV to the Accomplishment Instructions to include procedures for verifying that the correct countersunk-head bolt was used to attach the power control cable to the bellcrank, and provide additional clarification and corrections. Change No. 02, dated February 8, 2001, of the service bulletin includes only editorial changes to Figure 6 of the service bulletin.

Comments

Due consideration has been given to the one comment received in response to the first supplemental NPRM:

Request To Extend 18-Month Compliance Time

The commenter requests that the 18-month compliance time in paragraph (d) of the supplemental NPRM be extended significantly because of two factors. First, the proposed action adds considerable cost to airline operations, especially when considered along with other FAA requirements currently being implemented (e.g., modifications to the cargo compartment and flight data recorder). Second, the proposed action alleviates the safety concern with the flight idle stop system.

The FAA does not concur with the commenter's request to extend the compliance time. We point out that recent service experience indicates that the SFISS has proved to be vulnerable to certain maintenance failures and has inherent design aspects that reduce the reliability of the system. Based on this information, we have determined that the increased reliability of the system is essential to the continued airworthiness of Model EMB-120 series airplanes. In developing an appropriate compliance time for this action, we considered the compliance time specified in the Brazilian airworthiness directive (18 months), the safety implications, parts availability, and normal maintenance schedules for timely accomplishment of the modification. In consideration of these items, we have determined that 18 months or 4,000 flight hours, whichever occurs earlier, represents an appropriate interval of time allowable wherein SFISS modifications can be accomplished during scheduled maintenance intervals for the majority of affected operators, and an acceptable level of safety can be maintained. No change to this second supplemental NPRM is necessary in this regard.

Clarifications Since Issuance of the First Supplemental NPRM

Operators should note the following clarifications made to this supplemental NPRM:

• The unsafe condition of the first supplemental NPRM only states that the actions specified by this proposed AD are intended “to prevent an inoperative backup flight idle stop system.” However, this second supplemental NPRM further clarifies and describes the unsafe condition.

• The applicability of the first supplemental NPRM specifies serial numbers 120004 through 120354 inclusive for Model EMB-120 series airplanes. However, because the applicability of the Brazilian airworthiness directive does not include serial number 120005, the applicability of this second supplemental NPRM also does not include serial number 120005.

• The compliance time in paragraph (d)(3) of this second supplemental NPRM has been clarified. Although paragraph (d)(3) of the first supplemental NPRM specifies “400 flight hours,” this second supplemental NPRM specifies “4,000 flight hours.” The FAA points out that it was our intent to specify the same compliance time for modifying the SFISS in paragraphs (d)(1) through (d)(4) in the first supplemental NPRM. We also point out that this second supplemental NPRM includes only paragraphs (d)(1), (d)(2), and (d)(3).

Requirements of This Supplemental NPRM

This supplemental NPRM would retain the actions required by AD 92-16-51: repetitive visual checks or inspections to verify that the flight idle stop system circuit breakers are closed, and functional tests to determine if the backup flight idle stop system is operative. This supplemental NPRM also would require modification of the secondary flight idle stop system (SFISS), which would terminate the repetitive actions. In addition, this supplemental NPRM would remove one airplane from the applicability; and would add new inspections and corrective actions if necessary.

Differences Between Second Supplemental NPRM and Certain Service Bulletins

Operators should note that, although the Accomplishment Instructions of EMBRAER Service Bulletin 120-76-0015, Change No. 06; and Service Bulletin 120-76-0018, Change No. 04; specify that the manufacturer may be contacted for disposition of certain repair conditions, this second supplemental NPRM would require the repair of those conditions per a method approved by either the FAA or the Departmento de Aviacao Civil (DAC), the airworthiness authority of Brazil, (or its delegated agent). In light of the type of repair that would be required to address the identified unsafe condition, and in consonance with existing bilateral airworthiness agreements, the FAA has determined that, for this second supplemental NPRM, a repair approved by either the FAA or the DAC would be acceptable for compliance with this proposed AD.

Operators also should note that Figure 10 of previously referenced Service Bulletin 120-76-0015 specifies contacting the manufacturer if the existing hole in the bellcrank is not a countersunk hole. However, this second supplemental NPRM would require operators to contact the FAA in that case.

Conclusion

The FAA has revised this second supplemental NPRM to specify new requirements based on new revisions to the previously referenced service bulletins. Since these changes expand the scope of the first supplemental NPRM, the FAA has determined that it is necessary to reopen the comment period to provide additional opportunity for public comment.

Cost Impact

The FAA estimates that 230 EMBRAER Model EMB-120 series airplanes of U.S. registry would be affected by this second supplemental NPRM.

The actions that are currently required by AD 92-16-51 take approximately 5 work hours per airplane to accomplish, at an average labor rate of $60 per work hour. Based on these figures, the cost impact of that AD on U.S. operators is estimated to be $69,000, or $300 per airplane, per inspection cycle.

The approximate cost, at an average labor rate of $60 per work hour, for the modifications proposed by this AD are listed in the following table:

Estimated Costs
Service bulletin | Work hours | Parts cost | Cost per airplane
120-76-0015:
Part I | 5 | $4,376 | $4,676
Part II | 3 | 14,331 | 14,511
Part III | 1 | 53 | 113
120-76-0018:
Part I | 130 | 22,218 | 30,018
Part II | 1 | (average cost varies with configuration) | (average cost varies with configuration)
120-76-0022:
Part I | 3 | 14,456 | 14,636
Part II | 3 | 2,465 | 2,645
Part III | 3 | 14,525 | 14,705
Part IV | 1 | 53 | 113

Therefore, based on the figures included in the table above, the cost impact of the modification proposed by this AD on U.S. operators is estimated to range from $113 to $30,018 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-8355 (57 FR 40838, September 8, 1992), and by adding a new airworthiness directive (AD) to read as follows:

Empresa Brasileira de Aeronautica S.A. (EMBRAER): Docket 2000-NM-66-AD. Supersedes AD 92-16-51, Amendment 39-8355.

Applicability: Model EMB-120 series airplanes, certificated in any category; serial number 120004, and serial numbers 120006 through 120354 inclusive.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f)(1) of this AD. The request should include an assessment of the effect of the modification, alteration, or repair on the unsafe condition addressed by this AD; and, if the unsafe condition has not been eliminated, the request should include specific proposed actions to address it.

Compliance: Required as indicated, unless accomplished previously.

To prevent inadvertent or intentional operation with the power levers below the flight idle stop during flight for airplanes that are not certificated for in-flight operation, which could result in engine overspeed and consequent loss of controllability of the airplane; accomplish the following:

Restatement of Certain Requirements of AD 92-16-51

Checks/Inspections

(a) For all airplanes: Within 5 days after September 23, 1992 (the effective date of AD 92-16-51, amendment 39-8355), and thereafter prior to the first flight of each day until the requirements of paragraph (d) of this AD have been accomplished, accomplish paragraph (a)(1) or (a)(2) of this AD, as applicable:

(1) For airplanes on which an inspection window has been installed on the left lateral console panel that permits visibility of the flight idle stop solenoid circuit breakers: Using an appropriate light source, perform a visual check to verify that both “FLT IDLE STOP SOL” circuit breakers CB0582 and CB0583 for engine 1 and engine 2 are closed.

Note 2: This check may be performed by a flight crew member.

Note 3: Instructions for installation of an inspection window can be found in EMBRAER Information Bulletin 120-076-0003, dated November 19, 1991; or EMBRAER Service Bulletin 120-076-0014, dated July 29, 1992.

(2) For airplanes on which an inspection window has not been installed on the left lateral console panel: Perform a visual inspection to verify that both “FLT IDLE STOP SOL” circuit breakers CB0582 and CB0583 for engine 1 and engine 2 are closed.

(b) As a result of the check or inspection performed in accordance with paragraph (a) of this AD: If circuit breakers CB0582 and CB0583 are not closed, prior to further flight, reset them and perform the functional test specified in paragraph (c) of this AD.

Functional Test

(c) Within 5 days after September 23, 1992, and thereafter at intervals not to exceed 75 hours time-in-service, or immediately following any maintenance action where the power levers are moved with the airplane on jacks, until the requirements of paragraph (d) of this AD have been accomplished, conduct a functional test of the backup flight idle stop system for engine 1 and engine 2 by performing the following steps:

(1) Move both power levers to the “MAX” position.

(2) Turn the aircraft power select switch on.

(3) Open both “AIR/GROUND SYSTEM” circuit breakers CB0283 and CB0286 to simulate in-flight conditions with weight-off-wheels. Wait for at least 15 seconds, then move both power levers back toward the propeller reverse position with the flight idle gate triggers raised. Verify that the power lever for each engine cannot be moved below the flight idle position, even though the flight idle gate trigger on each power lever is raised.

(4) If the power lever can be moved below the flight idle position, prior to further flight, restore the backup flight idle stop system to the configuration specified in EMBRAER 120-076-0009, Change No. 4, dated November 1, 1990; and perform a functional test.

Note 4: If the power lever can be moved below flight idle, this indicates that the backup flight idle stop system is inoperative.

(5) Move both power levers to the “MAX” position.

(6) Close both “AIR/GROUND SYSTEM” circuit breakers CB0283 and CB0286. Wait for at least 15 seconds, then move both power levers back toward the propeller reverse position with the flight idle gate triggers raised. Verify that the power lever for each engine can be moved below the flight idle position.

(7) If either or both power levers cannot be moved below the flight idle position, prior to further flight, inspect the backup flight idle stop system and the flight idle gate system, and accomplish either paragraph (c)(7)(i) or (c)(7)(ii) of this AD, as applicable:

(i) If the backup flight idle stop system is failing to disengage with weight-on-wheels, prior to further flight, restore the system to the configuration specified in EMBRAER Service Bulletin 120-076-0009, Change No. 4, dated November 1, 1990.

(ii) If the flight idle gate system is failing to open even though the trigger is raised, prior to further flight, repair in accordance with the EMBRAER Model EMB-120 maintenance manual.

(8) Turn the power select switch off. The functional test is completed.

New Requirements of This AD

Terminating Action

(d) Within 18 months or 4,000 flight hours after the effective date of this AD, whichever occurs earlier, modify the secondary flight idle stop system (SFISS), as required by paragraph (d)(1), (d)(2), or (d)(3) of this AD; as applicable. Accomplishment of the modification constitutes terminating action for the requirements of this AD.

(1) For airplanes having serial number 120004, and serial numbers 120006 through 120067 inclusive, and 120069 through 120344 inclusive; as listed in EMBRAER Service Bulletin 120-76-0018, Change No. 04, dated March 30, 2001: Accomplish the actions required by either paragraph (d)(1)(ii) or (d)(1)(ii) of this AD, as applicable.

(i) If the actions specified by EMBRAER Service Bulletin 120-76-0018, Change No. 01, dated September 9, 1999; or Change No. 02, dated November 22, 1999; HAVE NOT been accomplished: Modify the SFISS per the Accomplishment Instructions of EMBRAER Service Bulletin 120-76-0018, Change No. 03, dated May 26, 2000; or Change No. 04; or

(ii) If the actions specified by EMBRAER Service Bulletin 120-76-0018, Change No. 01; or Change No. 02; HAVE been accomplished: Perform additional inspections per Part II of the Accomplishment Instructions of EMBRAER Service Bulletin 120-76-0018, Change No. 04.

(2) For the airplane having serial number 120068: Modify the SFISS per the Accomplishment Instructions of EMBRAER Service Bulletin 120-76-0015, Change No. 06, dated October 3, 2000.

(3) For airplanes having serial numbers 120345 through 120354 inclusive: Modify the SFISS per the Accomplishment Instructions of EMBRAER Service Bulletin 120-76-0022, Change No. 01, dated October 9, 2000; or Change No. 02, dated February 8, 2001.

Note 5: This AD references the following service information for applicability, inspection, and modification information: EMBRAER Service Bulletin 120-76-0015, Change No. 06, dated October 3, 2000; Service Bulletin 120-76-0018, Change No. 04, dated March 30, 2001; and Service Bulletin 120-76-0022, Change No. 01, dated October 9, 2000; or Change No. 02, dated February 8, 2001. In addition, this AD specifies compliance-time requirements beyond those included in Brazilian airworthiness directive 90-07-04R4, dated October 4, 1999; or the service information. Where there are differences between this AD and previously referenced documents, this AD prevails.

Note 6: Accomplishment of the requirements of paragraph (d) of this AD does not remove or otherwise alter the requirement to perform the repetitive (400-flight-hour) CAT 8 task checks specified by the Maintenance Review Board.

Corrective Actions

(e) During any visual check or inspection required by this AD, if any countersunk-head bolt was NOT used to attach the power control cable to the bellcrank, or if any hex-head bolt WAS used to attach the cable to the bellcrank: Prior to further flight, repair per a method approved by the Manager, Atlanta Aircraft Certification Office (ACO), FAA; or the Departmento de Aviacao Civil (or its delegated agent).

Alternative Methods of Compliance

(f)(1) An alternative method of compliance or adjustment of the compliance time that provides an acceptable level of safety may be used if approved by the Manager, Atlanta ACO. Operators shall submit their requests through an appropriate FAA Principal Maintenance Inspector, who may add comments and then send it to the Atlanta ACO.

(2) Alternative methods of compliance, approved previously for paragraphs (a), (b), and (c) of AD 92-16-51, are considered to be approved as alternative methods of compliance with the inspection requirements of paragraphs (a), (b), and (c) of this AD. No alternative methods of compliance have been approved per AD 92-16-51 as terminating action for this AD.

Note 7: Information concerning the existence of approved alternative methods of compliance with this AD, if any, may be obtained from the Atlanta ACO.

Special Flight Permits

(g) Special flight permits may be issued per §§ 21.197 and 21.199 of the Federal Aviation Regulations (14 CFR 21.197 and 21.199) to operate the airplane to a location where the requirements of this AD can be accomplished.

Note 8: The subject of this AD is addressed in Brazilian airworthiness directive 90-07-04R4, dated October 4, 1999.

Issued in Renton, Washington, on May 8, 2002.
Vi L. Lipski,
Manager, Transport Airplane Directorate, Aircraft Certification Service.

[FR Doc. 02-12067 Filed 5-14-02; 8:45 am]

BILLING CODE 4910-13-P